DEPARTMENT OF THE INTERIOR

National Park Service

National Register of Historic Places; Notification of Pending Nominations

Nominations for the following properties being considered for listing in the National Register were received by the National Park Service before June 29, 2002. Pursuant to section 60.13 of 36 CFR part 60 written comments concerning the significance of these properties under the National Register criteria for evaluation may be forwarded by United States Postal Service, to the National Register Historic Places, National Park Service, 1849 C St., NW., NC400, Washington, DC 20240; by all other carriers, National Register of Historic Places, National Park Service, 800 N. Capitol St., NW., Suite 400, Washington, DC 20002; or by fax, 202-343-1836. Written or faxed comments should be submitted by August 2, 2002.

Carol D. Shull,
Keeper of the National Register of Historic Places.

ARKANSAS

Randolph County

St. Mary's AME Church—Pocahontas Colored School, 1708 Archer St., Pocahontas, 02000830

CONNECTICUT

Hartford County

Union Village Historic District, Roughly bounded by Union Pond, Oakland St., RR Right of Way, Marble St., Hockanum R., Manchester, 02000831

MISSOURI

Chariton County

Dalton Vocational School Historic District, jct. of Fourth St. and MO J,Dalton, 02000832

Greene County

Walnut Street Historic District (Boundary Increase I), Roughly along E Walnut St., from the 700 and 800 Blocks, Springfield, 02000833

WISCONSIN

Sauk County

Gust Brothers' Store, 101 Fourth St., Baraboo, 02000834

A request for a MOVE has been made for the following resource:

285 Prospect St., within the,

CONNECTICUT

New Haven County

Prospect Hill Historic District Off CT 10 New Haven, 79002670

[FR Doc. 02-18049 Filed 7-17-02; 8:45 am]

BILLING CODE 4310-70-P